DEPARTMENT OF TRANSPORTATION

National Highway Traffic Safety Administration

[Docket No. NHTSA-2012-0011]

NHTSA Activities Under the United Nations World Forum for the Harmonization of Vehicle Regulations 1998 Global Agreement

AGENCY: National Highway Traffic Safety Administration (NHTSA), Department of Transportation (DOT).

ACTION: Notice of activities under the 1998 Global Agreement and request for comments.

SUMMARY: NHTSA is publishing this notice to inform the public of the scheduled upcoming meetings under the World Forum for the Harmonization of Vehicle Regulations (WP.29) and its Working Parties of Experts for calendar year 2012. This notice will provide the public with the most recent status of activities under the Program of Work of the 1998 Global Agreement and requests comments on various aspects of these activities. Publication of this information is in accordance with NHTSA's Statement of Policy regarding Agency Policy Goals and Public Participation in the Implementation of the 1998 Global Agreement on Global Technical Regulations.

DATES: Written comments may be submitted to this agency within 30 days of publication of this notice.

ADDRESSES: You may submit comments identified by DOT Docket No. NHTSA-2012-0011 by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays. Telephone: 1-(800) 647-5527.

• Fax: (202) 493-2251.

Instructions: All submissions must include the agency name and docket number for this proposed collection of information. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review the DOT's complete Privacy Act Statement in the Federal Register published on April 11, 2000 (65 FR 19477-78), or you may visit http://Docketlnfo.dot.gov.

Docket: For access to the docket to read background documents or comments received, go to http://www.regulations.gov or the street address listed above. Follow the online instructions for accessing the dockets.

FOR FURTHER INFORMATION CONTACT: Mr. Ezana Wondimneh, Chief, International Policy and Harmonization Division (NVS-133), National Highway Traffic Safety Administration, 1200 New Jersey Avenue SE, Washington, DC 20590; Telephone: (202) 366-0846, fax (202) 493-2280.

SUPPLEMENTARY INFORMATION:

Table of Contents

I. Background

A. WP.29 and Its Working Parties of Experts

1. WP.29

2. Working Parties of Experts

II. List of Provisional Meetings of WP.29 and Its Working Parties of Experts

III. Status of Activities Under the Program of Work of the 1998 Global Agreement

A. Status of Established GTRs under the 1998 Global Agreement

1. Pedestrian Safety

2. Head Restraints

3. Door Locks and Door Retention Components

4. Safety Glazing

5. Motorcycle Controls and Displays

B. New Proposals for the Development of GTRs

1. Quiet Vehicles

2. Electric Vehicles

C. Status of GTRs Under Development

1. Hydrogen Fuel-Cell Vehicles

2. Light Vehicle Tires

3. Pole Side Impact Protection

D. Items Under Exchange of Information

1. Harmonized Side Impact Dummies

2. Enforcement Working Group

E. Compendium of Candidate GTRs

IV. Request for Comments

I. Background

On August 23, 2000, NHTSA published in the Federal Register (65 FR 51236) a statement of policy regarding the Agency's policy goals and public participation in the implementation of the 1998 Global Agreement, indicating that each calendar year the Agency would provide a list of scheduled meetings of the World Forum for the Harmonization of Vehicle Regulations (WP.29) and the Working Parties of Experts, as well as meetings of the Executive Committee of the 1998 Global Agreement (AC.3).¹ Further, in that policy statement, the Agency stated that it would keep the public informed about the Agreement's Program of Work (i.e., subjects designated for Global Technical Regulation (GTR) development), as well as maintain a list of candidate GTRs that have been formally proposed by a contracting party and referred to a working party of experts, including those draft GTRs already developed and referred by a Working Party of Experts to AC.3 for establishment under the Agreement.

¹ This statement of policy is codified in Appendix C of Part 553 of Title 49 of the CFR.

In keeping with this policy, NHTSA has notified the public about the status of activities under the 1998 Global Agreement and sought comments on various issues and proposals through a series of Federal Register notices published beginning July 2000.² This notice provides an update of the Agency's activities under the 1998 Global Agreement.

² The relevant Federal Register notices include: 65 FR 44565, 66 FR 4893, 68 FR 5333, 69 FR 60460, 71 FR 59582, 73 FR 7803, 73 FR 8743, 73 FR 31914, and 73 FR 5520.

A. WP.29 and Its Working Parties of Experts

1. WP.29

WP.29 was established on June 6, 1952 as the Working Party on the Construction of Vehicles, a subsidiary body of the Inland Transport Committee (ITC) of the United Nations Economic Commission for Europe (UNECE). In March 2000, WP.29 became the “World Forum for Harmonization of Vehicle Regulations (WP.29).” The objective of the WP.29 is to initiate and pursue actions aimed at the worldwide harmonization or development of technical regulations for vehicles.³ Providing uniform conditions for periodical technical inspections and strengthening economic relations worldwide, these regulations are aimed at:

³ For general information about WP.29, see the document, “World Forum for Harmonization of Vehicle Regulations (WP.29)—How It Works, How to Join It,” available at http://www.unece.org/index.php?id=2077.

—Improving vehicle safety;

—Protecting the environment;

—Promoting energy efficiency and

—Increasing anti-theft performance.

WP.29 currently administers three UNECE Agreements:

1. UNECE 1958 Agreement concerning the Adoption of Uniform Technical Prescriptions for Wheeled Vehicles, Equipment and Parts which can be Fitted and/or be Used on Wheeled Vehicles and the Conditions for Reciprocal Recognition of Approvals Granted on the Basis of these Prescriptions;

2. UNECE 1998 Agreement concerning the Establishing of Global Technical Regulations for Wheeled Vehicles, Equipment and Parts which can be Fitted and/or be Used on Wheeled Vehicles;

3. UNECE 1997 Agreement concerning the Adoption of Uniform Conditions for Periodical Technical Inspections of Wheeled Vehicles and the Reciprocal Recognition of such Inspections.

Four committees coordinate the activities of WP.29:

AC.1—Administrative Committee for 1958 Agreement

AC.2—Administrative Committee for the Coordination of Work

AC.3—Executive Committee for 1998 Agreement

AC.4—Administrative Committee for 1997 Agreement

AC.1, AC.3 and AC.4 are the Administrative/Executive Committees for the Agreements administered by WP.29, constituting all Contracting Parties of the respective Agreements.

The coordination of work of the World Forum is managed by a Steering Committee (AC.2) comprising the Chairperson and Secretariat of WP.29, the Chairpersons of the Executive Committees of the 1958, 1997 and 1998 Agreements administered by WP.29, the representatives of the European Community, Japan and the United States of America, and the Chairpersons of WP.29's subsidiary bodies (GRs or Working Parties). The duties of AC.2 are to develop and recommend to WP.29 a Program of Work, to review the reports and recommendations of WP.29's subsidiary bodies, to identify items that require action by WP.29 and the time frame for their consideration, and to provide recommendations to WP.29.

2. Working Parties of Experts

The permanent subsidiary bodies of WP.29, also known as GRs (Groups of Rapporteurs), assist the World Forum for Harmonization of Vehicle Regulations in researching, analyzing and developing requirements for technical regulations in the areas of their expertise. There are six subsidiary bodies:

Working Party on Lighting and Light-Signaling (GRE);

Working Party on Brakes and Running Gear (GRRF);

Working Party on Passive Safety (GRSP);

Working Party on General Safety Provisions (GRSG);

Working Party on Pollution and Energy (GRPE);

Working Party on Noise (GRB).

Each subsidiary body consists of people whose expertise is relevant to the area covered by the body. All the proposals to WP.29 for new regulations or amendments to existing UNECE regulations are referred by the World Forum to its subsidiary bodies for preparation of technical recommendations. In view of the significance of the role of these subsidiary bodies, these have been given permanent status under UNECE and have been renamed as “Working Parties.” More specifically, the working parties and their areas of expertise are outlined below.

Active Safety of Vehicles and Their Parts (Crash Avoidance)

Working Party on Lighting and Light-Signaling (GRE)

Working Party on Brakes and Running Gear (GRRF)

The regulations in this area seek to improve the behavior, handling and equipment of vehicles so as to decrease the likelihood of a road crash. Some of the regulations seek to increase the ability of drivers to detect and avoid hazardous circumstances. Others seek to increase the ability of drivers to maintain control of their vehicles. Specific examples of current regulations include ones applying to lighting and light-signaling devices, braking and running gear, including steering, tires and rollover stability. This area of technology is rapidly changing. The advent of advanced technologies (e.g., electronic, computer and communication) is providing opportunities for seeking new remedies that can help drivers avoid crashes.

Passive Safety (Crashworthiness)

Working Party on Passive Safety (GRSP)

The regulations in this area seek to minimize the risk and severity of injury for the occupants of a vehicle and/or other road users in the event of a crash. Extensive use is made of crash statistics to identify safety problems for which a regulation or amendment to an existing regulation is needed and define a proper cost/benefit approach when improving performance requirements in this area. This is important, given the overall impact of new requirements on vehicle construction, design and cost. Specific examples of current regulations include ones addressing the ability of the vehicle structure to manage crash energy and resist intrusion into the passenger compartment, occupant restraint and protection systems for children and adults, seat structure, glazing, door latches and door retention, pedestrian protection and for motorcycles and the quality of the protective helmet for the rider. This area of technology also is changing rapidly and becoming more complex. Examples include advanced protection devices that adjust their performance in response to the circumstances of individual crashes. In addition, changes in the vehicle population are raising issues of vehicle compatibility and aggressivity.

General Safety Considerations

Working Party on General Safety Provisions (GRSG)

The regulations in this area address vehicle and component features which are not directly linked to the above-mentioned subject areas. For example, windshield wipers and washers, controls and displays and glazing are grouped under this heading. Further, theft prevention and the considerations of public transport vehicles for which special expertise is needed in establishing their performance requirements are covered in this category.

Environmental Considerations

Working Party on Pollution and Energy (GRPE)

Working Party on Noise (GRB)

In general, the regulations in this area address questions of the pollution of the environment, noise disturbances and conservation of energy (fuel consumption).

Special Technical Considerations

Informal Working Groups (IWGs)

In some cases, a specific problem needs to be solved urgently or needs to be addressed by persons having a special expertise. In such situations, a special informal working group may be entrusted with the analysis of the problem and invited to prepare a proposal for a regulation. Although such cases have traditionally been kept to a minimum, the rapid development of complex new technologies is increasing the necessity for using this special approach.

II. List of Meetings of WP.29 and Its Working Parties of Experts

The following list shows the scheduled meetings of WP.29 and its subsidiary Working Parties of Experts for vehicle safety for calendar year 2012. In addition to these meetings, Working Parties of Experts may schedule, if necessary, IWG sessions outside their regular schedule in order to address technical matters specific to GTRs under consideration. The formation and timing of these groups are recommended by the sponsor and chair of the group and are approved by WP.29 and AC.3. The schedule and place of meetings are made available to interested parties in proposals and periodic reports which are posted on the Web site of WP.29, which can be found at: http://www.unece.org/trans/main/welcwp29.html.

2012 Provisional Schedule of Meetings of WP.29 and Its Working Parties of Experts
January 17-20 | Working Party on Pollution and Energy (GRPE) (63rd session).
February 07-09 | Working Party on Noise (GRB) (55th session).
20-24 | Working Party on Brakes and Running Gear (GRRF) (72nd session).
March 12 | Administrative Committee for the Coordination of Work (AC.2) (108th session).
13-16 | World Forum for Harmonization of Vehicle Regulations (WP.29) (156th session).
26-29 | Working Party on Lighting and Light-Signaling (GRE) (67th session).
April 16-20 | Working Party on General Safety Provisions (GRSG) (102nd session).
May 21-25 | Working Party on Passive Safety (GRSP) (51st session).
June 05-08 | Working Party on Pollution and Energy (GRPE) (64th session).
25 | Administrative Committee for the Coordination of Work (AC.2) (109th session).
26-29 | World Forum for the Harmonization of Vehicle Regulations (WP.29) (157th session).
September 03-05 | Working Party on Noise (GRB) (56th session).
October 02-05 | Working Party on General Safety Provisions (GRSG) (103rd session).
16-18 | Working Party on Lighting and Light-Signaling (GRE) (68th session).
November 12 | Administrative Committee for the Coordination of Work (AC.2) (110th session).
13-16 | World Forum for the Harmonization of Vehicle Regulations (WP.29) (158th session).
December 11-14 | Working Party on Passive Safety (GRSP) (52nd session).

III. Status of Activities Under the Program of Work of the 1998 Global Agreement

The current Program of Work of the 1998 Global Agreement is listed in the table below. Note that the items listed are for those related to vehicle safety only.

Working party of experts | Subject | Sponsoring contracting party | Chair of informal working group
WP.29 | Exchange of Information Enforcement Working Group | USA | USA.
GRRF | GTR on Tires for Light Vehicles | France | UK.
GRSP | Amend.1 to GTR No. 1 (Door locks) | USA | N/A.
| Phase 2 of GTR No. 7 (Head Restraints) | Japan | UK.
| Phase 2 of GTR No. 9 (Pedestrian Safety) | Japan/Germany | Germany/Japan.
| GTR on Hydrogen Vehicles—Safety Sub-Group | USA/Germany/Japan | USA/Japan.
| GTR on Pole Side Impact | Australia | Australia.
| Exchange of Information on Harmonized side impact dummies | USA | USA.
| Electric Vehicles Safety GTR | USA/Japan/EC | USA/Japan.
GRB | GTR on Quiet Road Transport Vehicles | USA/Japan | TBD.

A. Status of Established GTRs Under the 1998 Global Agreement

• Pedestrian Safety

At the November 2008 session, WP.29 voted to establish ⁴ GTR 9 ⁵ on Pedestrian Safety. Implementation of the GTR by the contracting parties would improve pedestrian safety by requiring vehicle hoods and bumpers to absorb energy more efficiently in a 40 kilometer per hour (km/h) vehicle-to-pedestrian crash. Crashes at speeds up to that threshold account for more than 75 percent of crashes in which pedestrians are injured.

⁴ Under the 1998 Global Agreement, GTRs are established by consensus vote of the Agreement's contracting parties present and voting.

⁵ While the 1998 Global Agreement obligates contracting parties that vote in favor of establishing a GTR to begin their domestic rulemaking process, it leaves the ultimate decision of whether they adopt the GTR to the parties themselves.

The GTR contains two sets of performance criteria applying to: (a) The hood; and (b) the front bumper. Unique test procedures address adult and child head and adult leg impact protection for each of the two crash scenarios. At the time GTR 9 was adopted, a legform impactor developed by TRL (Transport Research Laboratory, UK) was used to evaluate front bumper impact performance. However, WP.29 agreed to consider the future use of a newer legform impactor called Flex-PLI (Flexible Pedestrian Legform Impactor), which may be more biofidelic. At the May 2011 session of GRSP, NHTSA reported research results that raised concerns about the readiness of the Flex-PLI device. As a result, at its June 2011 session, WP.29 agreed to form a new IWG under the sponsorship of Germany and Japan to further refine the Flex-PLI device.

Due to this planned activity, NHTSA is reevaluating how it will proceed.

• Head Restraints

The GTR for head restraints (GTR 7) was established by WP.29 at its March 2008 Session. At that time, the GTR's dynamic test procedure, which is designed to evaluate whiplash injury protection, allowed the use of two optional test dummies (the Hybrid III and BioRID II). A full system whiplash evaluation test that incorporates the combined performance of the seat and head restraint uses the BioRID II dummy, which was not then available.

Therefore, in November 2009, WP.29 initiated a second phase of development for the GTR by forming a new IWG tasked with the development of a fully developed BioRID II test tool, including test procedures, injury criteria and associated corridors. If this work is completed by the end of 2012, WP.29 plans to vote on amending GTR 7 at its June 2013 session. As a result of this ongoing activity, NHTSA has decided to delay rulemaking to amend the Federal Motor Vehicle Safety Standard (FMVSS) to incorporate the GTR until the GTR is updated to reflect the phase two work currently underway.

• Door Locks

At its November 2004 session, WP.29 established the GTR for door locks and door retention components (GTR 1). On December 15, 2004, NHTSA issued a Notice of Proposed Rulemaking (NPRM) closely based on GTR 1 (69 FR 75020). Subsequently, the United States published two Final Rules on February 06, 2007 (72 FR 5385) and February 19, 2010 (75 FR 7370) incorporating the requirements of the GTR into the FMVSS. Through these rulemaking actions, the agency made minor changes to clarify the regulatory text. Furthermore, as the GTR was incorporated into ECE Regulation 11 under the 1958 Agreement, additional clarifications were recommended.

Consequently, WP.29 is planning to combine all of the outstanding proposed amendments into a single proposal for consideration at its March 2012 session. No further action by United States is required.

• Safety Glazing

At its March 2008 session, WP.29 established the GTR for safety glazing for motor vehicles and motor vehicle equipment (GTR 6). The GTR includes harmonized requirements and tests for the mechanical properties, optical qualities and environmental resistance of glazing.

NHTSA is currently in the process of preparing an NPRM to propose the adoption of the Safety Glazing GTR into the FMVSS.

• Motorcycle Controls and Displays

At its November 2011 session, WP.29 established by consensus vote the GTR for Motorcycle Controls and Displays. The effort is sponsored and chaired by Italy and aims to standardize current widely used motorcycle controls and display symbols. Standardizing these could help prevent the introduction of new unique identifying symbols, which may lead to rider confusion. The draft GTR includes 22 symbols. Of these, 17 are already included in the FMVSS. Some of these include the passing beam, manual choke, turn signal, horn, driving beam, transmission neutral, electric starter, fuel tank shutoff valve on/off, hazard warning, engine coolant temp, lighting switch control, position lamp and battery charging. The remaining five are not included in current U.S. standards and include front fog lamp, rear fog lamp, parking lamp, ABS and emissions failure warning.

Locational and operational requirements for controls are also addressed in the GTR. They include the front wheel brake control, rear wheel foot brake control, rear wheel hand brake control, clutch, foot selected manual gear shift control and hand selected manual gear shift control.

The GTR provisions for controls are consistent with the current FMVSS, but also allow several alternative requirements to accommodate existing requirements in other contracting parties' jurisdictions. The GTR also allows contracting parties to continue the use of unique text as an alternative to symbols or in combination with symbols as is currently permitted in the FMVSS.

B. New Proposals for the Development of GTRs

• Quiet Vehicles

In 2009, NHTSA published a report on the incident rates of crashes involving hybrid-electric vehicles and pedestrians under different scenarios.⁶ The U.S. study, using crash data collected from several states, compared vehicle to pedestrian crash rates for hybrid electric-vehicles and vehicles with internal combustion engines (ICE). In the study, the agency found that there is an increased rate of pedestrian crashes for hybrid electric vehicles versus similarly sized ICE vehicles. In 2010, the agency published a second report that found that the overall sound levels for the hybrid-electric vehicles tested were lower at low speeds than for the peer ICE vehicles tested.⁷

⁶ “Research on Quieter Cars and the Safety of Blind Pedestrians, A Report to Congress” prepared by National Highway Traffic Safety Administration, U.S. Department of Transportation, October 2009. This report can be found at http://www.nhtsa.gov/DOT/NHTSA/NVS/Crash%20Avoidance/Technical%20Publications/2010/RptToCongress091709.pdf.

⁷ Garay-Vega, Lisandra; Hastings, Aaron; Pollard, John K.; Zuschlag, Michael; and Stearns, Mary D., Quieter Cars and the Safety of Blind Pedestrians: Phase I, John A. Volpe National Transportation Systems Center, DOT HS 811 304 April 2010, available at http://www.nhtsa.gov/DOT/NHTSA/NVS/Crash%20Avoidance/Technical%20Publications/2010/811304rev.pdf.

The Japanese Ministry of Land, Infrastructure, Transport and Tourism (MLIT), after studying the feasibility of alert sounds for electric and hybrid-electric vehicles, issued guidelines for pedestrian alert sounds in 2010. MLIT concluded that pedestrian alert sounds should be required only on hybrid-electric vehicles that can run exclusively on an electric motor, electric vehicles and fuel-cell vehicles. MLIT guidelines require that electric and hybrid-electric vehicles generate a pedestrian alert sound whenever the vehicle is moving forward at any speed less than 20 km/h and when the vehicle is operating in reverse. The guidelines do not require vehicles to produce an alert sound when the vehicle is operating, but stopped, such as at a traffic light. Also, manufacturers are allowed to equip the vehicle with a switch to deactivate the alert sound temporarily.

WP.29 also determined that vehicles propelled in whole or in part by electric means, present a danger to pedestrians and consequently adopted guidelines covering alert sounds for electric and hybrid vehicles that are closely based on the Japanese guidelines at its March 2011 meeting. The guidelines were published as an annex to the UNECE Consolidated Resolution on the Construction of Vehicles (R.E.3).

Considering the international interest and work in this new area of safety, the United States proposed working on a new GTR, with Japan as co-sponsor, to develop harmonized pedestrian alert sound requirements for electric and hybrid-electric vehicles under the 1998 Global Agreement.⁸ WP.29 is now working to develop a GTR that will consider international safety concerns and leverage expertise and research from around the world. Meetings of the working group are planned to take place regularly with periodic reporting to WP.29 until the expected establishment date for the new GTR in November 2014.

⁸ The agency is taking this initiative in part because the Pedestrian Safety Enhancement Act requires the agency to issue a standard specifying performance requirements for an alert sound that enables visually-impaired and other pedestrians to reasonably detect EVs and HVs operating below their cross-over speed. First, the alert sound must be sufficient to allow a pedestrian to reasonably detect a nearby EV or HV operating at constant speed, accelerating, decelerating and operating in any other scenarios that NHTSA deems appropriate. Second, it must reflect the agency's determination of the minimum sound level emitted by a motor vehicle that is necessary to allow visually-impaired and other pedestrians to reasonably detect a nearby EV or HV operating below the cross-over speed. Third, it must reflect the agency's determination of the performance requirements necessary to ensure that each vehicle's alert sound is recognizable to pedestrians as that of a motor vehicle in operation. In addition, the Act prohibits equipping a vehicle with means for deactivating the alert sound.

• Electric Vehicles

At the November 2011 session of WP.29, NHTSA, Japan and the European Commission proposed a road map for the establishment of a GTR for electric vehicles, which was endorsed by WP.29. A new IWG is expected to be formed in early 2012 to begin work to develop the GTR, which would apply to all types of hybrid and pure electric vehicles, their batteries, and other associated high risk components. To the extent possible, the GTR will include performance-based requirements and testing protocols designed to allow for innovation, while ensuring that the unique safety risks posed by electric vehicles are mitigated. The GTR will address the safety of high voltage electrical components, including lithium-ion and other types of batteries, their performance during normal use, after a crash event, and while recharging at a residence or other charging station.

C. Status of GTRs Under Development

• Hydrogen Fuel-Cell Vehicles

In June 2007, WP.29 adopted an Action Plan prepared by the co-sponsors (United States, Germany and Japan) to develop a GTR for compressed gaseous and liquefied hydrogen fuel vehicles.⁹ Soon after, WP.29 formed an IWG to develop a GTR for these types of vehicles with the aim of attaining levels of safety equivalent to those for conventional gasoline-powered vehicles. The GTR is intended to cover the safety of hydrogen fuel containers, hydrogen fuel lines and their related components, as well as the safety of high-voltage components.

⁹ The GTR Action Plan (ECE/TRANS/WP.29/2007/4 I) and GTR proposal (ECE/TRANS/WP.29/AC.3/I 7) can be found at http://www.unece.org/trans/main/wp29/wp29wgs/wp29gen/gen2007.html and http://www.unece.org/trans/main/wp29/wp29wgs/wp29gen/wp29glob proposal.html, respectively.

The IWG is nearing completion of its work, but has a number of issues outstanding. These include:

(1) Electrical Shock Barrier: The IWG is considering allowing the use of physical barriers (such as enclosures and insulation) as an optional method for manufacturers to use to prevent electrical shock to persons during vehicle use or after a crash event. NHTSA will make a decision pending the completion and analysis of the research results.

(2) Duration of the Localized Fire Test: This requirement in the GTR specifies the duration of a localized flame test that the hydrogen container must survive. Although the IWG has been targeting a duration of five minutes for this test, NHTSA has proposed that the duration be extended to 10 minutes because research data from Japan have shown that under certain circumstances, localized fires of the types hydrogen vehicles may experience in the real world can last as long as 10 minutes. The IWG will study the issue further before deciding on the ultimate duration time.

(3) Hydrogen Container Material Compatibility: The research for this critical item has not yet been completed and is expected to continue. Therefore, the IWG has agreed to recommend that the contracting parties continue to use their current regulations and standards, if any, until suitable harmonized provisions can be developed in a possible second phase of the GTR.

The draft GTR is scheduled to be completed and presented to WP.29 for a possible vote to establish it by December 2012.

• Light Vehicle Tires

The IWG for developing a GTR for light vehicle tires began its work in September 2006. This activity is sponsored by France and chaired by the UK. The GTR would apply to radial passenger and light truck tires designed to be used on vehicles with a gross mass of 10,000 pounds or less. The provisions would include five mandatory performance and labeling requirements (tire sidewall markings, tire dimensions, high speed performance, low pressure and endurance performance, and wet grip performance).

In addition, there would be two optional modules, with one containing a tire strength test and bead unseating resistance test, and the second containing a tire rolling sound emission test. During the course of the development of the GTR, it became apparent that the requirements for light truck tires would require more time to develop. It was therefore decided by WP.29 to split the work of the GTR into two phases. The first phase will cover passenger car tires only, and the second will address the light truck tires.

The first phase of the GTR is near completion with only the wet grip test remaining to be developed. WP.29 expects that the GTR will be ready for consideration and a vote to establish by the end of 2012.

• Pole Side Impact

WP.29 formed an IWG to develop a GTR for pole side impact protection in June 2010 under the sponsorship and chairmanship of Australia and held its first meeting in November 2010. The first tasks of the IWG included confirming the safety need for the GTR notwithstanding the increasing prevalence of the electronic stability control systems in the vehicle fleet and assessing potential candidate crash test procedures for the GTR. The GTR would contain pole side impact test procedures and corresponding side impact test dummies representing a 50th percentile adult male and a 5th percentile adult female.

Australia has since proposed that the GTR be drafted with a 50th percentile adult male dummy requirement and a placeholder for 5th percentile adult female dummy in a first phase since it appears that the WorldSID dummies would be finalized on different timelines with the 50th percentile dummy development expected to be completed well ahead of the smaller one. This would allow contracting parties to obtain benefits of the 50th percentile adult male without having to wait for the 5th percentile adult female to be finalized.

NHTSA is concerned that a GTR, which included requirements for a WorldSID 50th percentile adult, but not a smaller adult dummy such as the SID-IIs, would not provide protection to smaller adults or children. This is because the agency has found that including the smaller 5th percentile dummy is not only important to protecting smaller adults, but is also effective in ensuring airbags and sensors designed for side impact protection work effectively for impact occurring at any point across vehicle full door widths. The IWG is still in the early stages of its work and is expected to meet regularly with periodic reporting to WP.29.

D. Exchange of Information

• Harmonized Side Impact Dummies

This activity is sponsored and chaired by the United States. The IWG working on addressing this issue generally meets in conjunction with the Pole Side Impact GTR IWG meetings as it is tasked with supporting the GTR by developing the WorldSID dummies. Please refer to the discussion in the “Status of GTRs under development” section above.

• Enforcement Working Group

At the June 2011 session of WP.29, NHTSA proposed that WP.29 consider forming a new working group that would meet to facilitate the regular exchange of nonproprietary or otherwise non privileged information on enforcement related activities from around the world to help governments identify and manage incidences of automotive non-compliance or defects more quickly. The participants of WP.29 welcomed the proposal and agreed to hold the first meeting during the November session of WP.29. The new working group includes only governmental representatives to facilitate the open flow of information between the vehicle safety enforcement arms of the various contracting parties.

E. Compendium of Candidate GTRs

Article 5 of the 1998 Global Agreement provides for the creation of a compendium of candidate technical regulations submitted by the Contracting Parties. To date, NHTSA has submitted several Federal Motor Vehicle Safety Standards (FMVSS) for inclusion in this Compendium. These FMVSS have all been listed in the Compendium after an affirmative vote of the Executive Committee of the 1998 Global Agreement.

The FMVSS listed in the Compendium include:

• FMVSS 202a: Head Restraints

• FMVSS 108: Lamps, Reflective Devices, and Associated Equipment

• FMVSS 135: Passenger Car Brake Systems

• FMVSS 139: New Pneumatic Radial Tires for Light Vehicles

• FMVSS 205: Glazing Materials

• FMVSS 213: Child Restraint Systems

• US EPA and the DOT programs for Light-Duty Vehicle Greenhouse Gas Emission Standards and Corporate Average Fuel Economy Standards

Additionally, the Compendium contains Japan's submission for its technical standard for fuel leakage entitled “Regulations for road vehicles in Japan regarding hydrogen and fuel-cell vehicles.”

IV. Request for Comments

NHTSA invites public comments on the various activities outlined in this notice. The agency plans to issue new proposed rules based on each GTR as they are established by WP.29 and will consider additional detailed comments at that time. In the event that the public's comments provide new information and data that leads the agency to adopt final rules that significantly differ from the GTRs upon which they were initially proposed, NHTSA will consider seeking amendments to those GTRs in an effort to maintain harmonization.

Issued on: January 20, 2012.
Christopher J. Bonanti,
Associate Administrator for Rulemaking.

[FR Doc. 2012-1853 Filed 1-27-12; 8:45 am]

BILLING CODE 4910-59-P